DEPARTMENT OF DEFENSE

Office of the Secretary

[Transmittal No. 24-26]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-26, Policy Justification, and Sensitivity of Technology.

Dated: May 20, 2025.
Stephanie J. Bost,
Alternate OSD Federal Register Liaison Officer, Department of Defense.

BILLING CODE 6001-FR-P

BILLING CODE 6001-FR-C

Transmittal No. 24-26

Notice of Proposed Issuance of Letter of Offer Pursuant to Section 36(b)(1) of the Arms Export Control Act, as amended

(i) Prospective Purchaser: Government of Poland

(ii) Total Estimated Value:

Major Defense Equipment * | $181.3 million
Other | $ 37.8 million
TOTAL | $219.1 million

Funding Source: Foreign Military Financing and National Funds

(iii) Description and Quantity or Quantities of Articles or Services under Consideration for Purchase:

Major Defense Equipment (MDE):

Two hundred thirty-two (232) AIM-9X Sidewinder Block II Tactical Missiles

Sixteen (16) AIM-9X Sidewinder Block II Tactical Missile Guidance Units

Non-MDE:

Also included are missile containers; training aids; active optical target detectors; spares; support equipment; missile support; United States (U.S.) Government and contractor technical assistance; and other related elements of logistics and program support.

(iv) Military Department: Navy (PL-P-ABH)

(v) Prior Related Cases, if any: PL-P-AAV

(vi) Sales Commission, Fee, etc., Paid, Offered, or Agreed to be Paid: None known at this time

(vii) Sensitivity of Technology Contained in the Defense Article or Defense Services Proposed to be Sold: See Attached Annex

(viii) Date Report Delivered to Congress: March 12, 2024

* as defined in Section 47(6) of the Arms Export Control Act.

POLICY JUSTIFICATION

Poland—AIM-9X Block II Sidewinder Missiles

The Government of Poland has requested to buy two hundred thirty-two (232) AIM-9X Sidewinder Block II Tactical Missiles and sixteen (16) AIM-9X Sidewinder Block II Tactical Missile Guidance Units. Also included are missile containers; training aids; active optical target detectors; spares; support equipment; missile support; U.S. Government and contractor technical assistance; and other related elements of logistics and program support. The estimated total cost is $219.1 million.

This proposed sale will support the foreign policy goals and national security objectives of the U.S. by improving the security of a NATO Ally that is a force for political stability and economic progress in Europe.

The proposed sale will improve Poland's capability to meet current and future operational needs. The additional missiles will allow Poland to bolster its defenses while increasing NATO interoperability. Poland already has these missiles in its inventory and will have no difficulty absorbing the additional weapons into its armed forces.

The proposed sale of this equipment and support will not alter the basic military balance in the region.

The principal contractor will be RTX Corporation, Tucson, AZ. There are no known offset agreements proposed in connection with this potential sale.

Implementation of this proposed sale will not require the assignment of any additional U.S. Government or contractor representatives to Poland. However, periodic travel on a temporary basis will be required in conjunction with program, technical, and management oversight and support requirements.

There will be no adverse impact on U.S. defense readiness as a result of this proposed sale.

Transmittal No. 24-26

Notice of Proposed Issuance of Letter of Offer Pursuant to Section 36(b)(1) of the Arms Export Control Act

Annex

Item No. vii

(vii) Sensitivity of Technology:

1. The AIM-9X Block II Sidewinder Missile represents a substantial increase in performance over the AIM-9M and replaces the AIM-9X Block I Missile configuration. The missile includes a high off-boresight seeker, enhanced countermeasure rejection capability, low drag and high angle of attack airframe, and the ability to integrate the Helmet Mounted Cueing System. The most current AIM-9X Block II Operational Flight Software developed for all International Partner countries, which is authorized by U.S. Government export policy, provides fifth-generation infrared missile capabilities such as Lock-On-After-Launch, Weapons Data Link, Surface Attack, and Surface Launch. No software source code or algorithms will be released.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Poland can provide substantially the same degree of protection for the sensitive technology being released as the U.S. Government. This sale is necessary in furtherance of the U.S. foreign policy and national security objectives outlined in the Policy Justification.

5. All defense articles and services listed in this transmittal have been authorized for release and export to Poland.

[FR Doc. 2025-09345 Filed 5-22-25; 8:45 am]

BILLING CODE 6001-FR-P